SECURITIES AND EXCHANGE COMMISSION

Sunshine Act Meeting; Correction

In FR Doc. E9-11077 for Monday, May 11, 2009, (73 FR 21839) in the second column of the Sunshine Act Notice make the following correction:

Revise the sixth line of the third paragraph to read: “The proposed amendments are designed to”.

Dated: May 14, 2009.
Elizabeth M. Murphy,
Secretary.

[FR Doc. E9-11701 Filed 5-19-09; 8:45 am]

BILLING CODE 8010-01-P